DEPARTMENT OF THE INTERIOR

Bureau of Land Management

[CACA 49016, LLCAD05000, L51010000.FX0000. LVRWB092990]

Notice of Availability of the Draft Environmental Impact Statement/Staff Assessment for the Solar Millennium's Ridgecrest Solar Power Project and Possible California Desert Conservation Area Plan Amendment

AGENCY: Bureau of Land Management, Interior.

ACTION: Notice of Availability.

SUMMARY: In accordance with the National Environmental Policy Act of 1969, as amended (NEPA), and the Federal Land Policy and Management Act of 1976, as amended (FLPMA), the Bureau of Land Management (BLM) and the California Energy Commission (CEC) have prepared a Draft Environmental Impact Statement (EIS), Draft California Desert Conservation Area (CDCA) Plan Amendment, and Staff Assessment (SA) as a joint environmental analysis document for the Ridgecrest Solar Power Project (RSPP), Kern County, California, and by this notice are announcing the opening of the comment period.

DATES: To ensure that comments will be considered, the BLM must receive written comments on the Draft EIS/SA within 90 days following the date the Environmental Protection Agency publishes its Notice of Availability of this document in the Federal Register. The BLM will announce future meetings or hearings and any other public involvement activities at least 15 days in advance through public notices, media releases, and/or mailings.

ADDRESSES: You may submit comments related to the RSPP by any of the following methods:

• Web site: http://www.energy.ca.gov/sitingcases/solar_millennium_ridgecrest/index.html.

• E-mail: esolorio@energy.state.ca.us and carspp@ca.blm.gov.

• Fax: (916) 651-0966

• Mail: Eric Solorio, Project Manager, Siting, Transmission, and Environmental Protection Division, California Energy Commission, 1516 Ninth Street, MS-15, Sacramento, California 95814.

Copies of the Solar Millennium's RSPP Draft EIS/SA are available from the CEC and the BLM at the above addresses and in the BLM Ridgecrest Field Office, 300 South Richmond Road, Ridgecrest, California 92555, or the California Desert District Office, 22835 Calle San Juan de los Lagos, Moreno Valley, California 92553.

FOR FURTHER INFORMATION CONTACT: Janet Eubanks, BLM Project Manager, telephone: (951) 697-5376, address: Bureau of Land Management, 22835 Calle San Juan de los Lagos, Moreno Valley, California 92553; or e-mail carspp@ca.blm.gov.

SUPPLEMENTARY INFORMATION: Solar Millennium has submitted to the BLM an amended application to develop a dry-cooled, utility-scale solar thermal electric power generating facility. The project will have a nominal output of 250 megawatts, consisting of a single power plant utilizing two solar fields.

The project would be located in northeastern Kern County, California, about five miles southwest of Ridgecrest, California. The proposed project right-of-way (ROW) would encompass approximately 3,995 acres of public lands administered by the BLM. The total disturbance area would encompass approximately 1,944 acres. The dry-cooled project would use solar parabolic trough technology to generate electricity. The project also includes the relocation of two Southern California Edison electrical transmission lines, construction of a new 5-mile long water supply pipeline, and an access road.

The BLM's purpose and need for the RSPP is to respond to Solar Millennium's application under Title V of FLPMA (43 U.S.C. 1761) for a ROW grant to construct, operate, and decommission a solar thermal facility on public lands in compliance with FLPMA, the BLM ROW regulations, and other applicable Federal laws and regulations. The BLM will decide whether to approve, approve with modification, or deny issuance of a ROW grant to Solar Millennium for the proposed RSPP. The BLM will also amend the CDCA Plan in this NEPA analysis by designating the project area as either available or unavailable to solar energy projects. The CDCA Plan (1980, as amended), while recognizing the potential placement of solar generation facilities on public lands, requires that all sites proposed for power generation or transmission not identified in the plan be considered through the plan amendment process.

In response to the application received from Solar Millennium, the BLM's proposed action is to authorize the RSPP and amend the CDCA Plan to designate the project area as available for solar energy projects. The project area would avoid El Paso Wash. In addition to the proposed action, the BLM is analyzing the following action alternatives: An alternative that limits the project to the Northern Unit to avoid Mohave Ground Squirrel designated critical habitat; an alternative that limits the project to the Southern Unit to avoid high population densities of desert tortoise and other resources; and the original proposed project alternative. All action alternatives would amend the CDCA Plan to make the area available to solar energy development.

In addition to the above, as required under NEPA, the Draft EIS analyzes a no action alternative that would not require a CDCA Plan amendment. The Draft EIS also analyzes two additional no action alternatives that reject the project, but amend the CDCA Plan to either: (1) Designate the project area as available to future solar energy power generation projects; or (2) designate the project area as unavailable to future solar energy power generation projects. The BLM will take into consideration the provisions of the Energy Policy Act of 2005 and Secretarial Orders 3283 Enhancing Renewable Energy Development on the Public Lands and 3285 Renewable Energy Development by the Department of the Interior in responding to the Solar Millennium application.

The BLM will use the NEPA commenting process to satisfy the public involvement process of Section 106 of the National Historic Preservation Act (16 U.S.C. 470f) as provided for in 36 CFR 800.2(d)(3). Native American Tribal consultations are being conducted in accordance with policy, and Tribal concerns will be given due consideration, including impacts on Indian trust assets.

The BLM has entered into a Memorandum of Understanding (MOU) with the CEC to conduct a joint environmental review of solar thermal projects that are proposed on Federal land managed by the BLM. The BLM and CEC have agreed through the MOU to conduct a joint environmental review of the project in a single combined NEPA/California Environmental Quality Act process and document. The BLM and CEC have prepared the Draft EIS/SA evaluating the potential impacts of the proposed RSPP on air quality, biological resources, cultural resources, water resources, geological resources and hazards, land use, noise, paleontological resources, public health, socioeconomic impacts, soils, traffic and transportation, visual resources, and other resources.

A Notice of Intent to Prepare an EIS/SA and Proposed Land Use Plan Amendment for the Proposed Ridgecrest Solar Power Project in Kern County, California was published in the Federal Register on November 23, 2009 (74 FR 61168). The BLM held two public scoping meetings in Ridgecrest and Inyokern, California, on January 5 and 6, 2010. The formal scoping period ended January 21, 2010.

Before including your address, phone number, e-mail address, or other personal identifying information in your comment, you should be aware that your entire comment—including your personal identifying information—may be made publicly available at any time. While you can ask us in your comment to withhold your personal identifying information from public review, we cannot guarantee that we will be able to do so.

Thomas Pogacnik,
Deputy State Director.

Authority: 40 CFR 1506.6, 1506.10 and 43 CFR 1610.2.

[FR Doc. 2010-7832 Filed 4-6-10; 8:45 am]

BILLING CODE 4310-40-P